SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before August 1, 2022.

ADDRESSES: Send all comments to Kelly LoTempio, Detailee for the Office of Strategic Alliances, Small Business Administration, Washington, DC 20416.

FOR FURTHER INFORMATION CONTACT: Kelly LoTempio, Detailee for the Office of Strategic Alliances, 716-551-3249, kelly.lotempio@sba.gov, Curtis B. Rich, Agency Clearance Office, 202-205-7030 curtis.rich@sba.gov.

SUPPLEMENTARY INFORMATION: Small business owners or advocates who have been nominated for an SBA recognition award submit this information for use in evaluating nominee's eligibility for an award: Verifying accuracy of information submitted and determining whether there are any actual or potential conflicts of interest. Awards are presented to winners during the Presidentially declared Small Business Week.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0360.

Title: U.S. Small Business Administration Award Nominations.

Description of Respondents: Nominated Small Business Owners or Advocates.

Form Number: 3300-3315/2023 Nomination Guidelines.

Annual Responses: 600.

Annual Burden: 1,200.

Curtis Rich,
Agency Clearance Officer.

[FR Doc. 2022-11755 Filed 5-31-22; 8:45 am]

BILLING CODE 8026-09-P